DEPARTMENT OF ENERGY

Federal Energy Regulatory Commission

Combined Notice of Filings #1

Take notice that the Commission received the following exempt wholesale generator filings:

Docket Numbers: EG22-94-000.

Applicants: SR McKellar Lessee, LLC.

Description: SR McKellar Lessee, LLC submits Notice of Self-Certification of Exempt Wholesale Generator Status.

Filed Date: 4/14/22.

Accession Number: 20220414-5114.

Comment Date: 5 p.m. ET 5/5/22.

Docket Numbers: EG22-95-000.

Applicants: SR McKellar, LLC.

Description: SR McKellar, LLC submits Notice of Self-Certification of Exempt Wholesale Generator Status.

Filed Date: 4/14/22.

Accession Number: 20220414-5128.

Comment Date: 5 p.m. ET 5/5/22.

Take notice that the Commission received the following Complaints and Compliance filings in EL Dockets:

Docket Numbers: EL19-56-001.

Applicants: Hoosier Energy Rural Electric Cooperative, Inc.

Description: Hoosier Energy Rural Electric Cooperative, Inc. submits tariff filing per 35: Informational Filing to Schedule 2 of MISO's Tariff to be effective N/A.

Filed Date: 4/12/22.

Accession Number: 20220412-5251.

Comment Date: 5 p.m. ET 5/3/22.

Take notice that the Commission received the following electric rate filings:

Docket Numbers: ER21-1790-006.

Applicants: California Independent System Operator Corporation.

Description: Compliance filing: 2022-04-14 Compliance Filing—Load, Exports and Wheeling Through Priority to be effective 8/4/2021.

Filed Date: 4/14/22.

Accession Number: 20220414-5153.

Comment Date: 5 p.m. ET 5/5/22.

Docket Numbers: ER22-42-001.

Applicants: DTE Electric Company.

Description: Refund Report: Refund Report Under Docket ER22-42 to be effective N/A.

Filed Date: 4/14/22.

Accession Number: 20220414-5094.

Comment Date: 5 p.m. ET 5/5/22.

Docket Numbers: ER22-1353-000.

Applicants: GridLiance High Plains LLC.

Description: Motion to Intervene and Consolidate and Formal Challenge of Xcel Energy Services Inc.

Filed Date: 4/13/22.

Accession Number: 20220413-5235.

Comment Date: 5 p.m. ET 5/13/22.

Docket Numbers: ER22-1632-000.

Applicants: CenterPoint Energy Houston Electric, LLC.

Description: § 205(d) Rate Filing: TFO Tariff Interim Raate Revision to Conform with PUCT Rate to be effective 4/12/2022.

Filed Date: 4/13/22.

Accession Number: 20220413-5192.

Comment Date: 5 p.m. ET 5/4/22.

Docket Numbers: ER22-1633-000.

Applicants: Southwest Power Pool, Inc.

Description: § 205(d) Rate Filing: 3928 Twelvemile Solar Energy Surplus Interconnection GIA to be effective 6/14/2022.

Filed Date: 4/14/22.

Accession Number: 20220414-5068.

Comment Date: 5 p.m. ET 5/5/22.

Docket Numbers: ER22-1634-000.

Applicants: Southwest Power Pool, Inc.

Description: § 205(d) Rate Filing: 3929 Twelvemile Energy Surplus Interconnection GIA to be effective 6/14/2022.

Filed Date: 4/14/22.

Accession Number: 20220414-5070.

Comment Date: 5 p.m. ET 5/5/22.

Docket Numbers: ER22-1635-000.

Applicants: New York Independent System Operator, Inc., New York State Electric & Gas Corporation.

Description: § 205(d) Rate Filing: New York Independent System Operator, Inc. submits tariff filing per 35.13(a)(2)(iii): NYISO-NYSEG Joint 205 Amended and Restated TPIA2604—CEII to be effective 4/6/2022.

Filed Date: 4/14/22.

Accession Number: 20220414-5129.

Comment Date: 5 p.m. ET 5/5/22.

Docket Numbers: ER22-1637-000.

Applicants: Duke Energy Florida, LLC, Duke Energy Carolinas, LLC.

Description: § 205(d) Rate Filing: Duke Energy Florida, LLC submits tariff filing per 35.13(a)(2)(iii): DEF—Annual Update of Real Power Loss Factors (2022) to be effective 5/1/2022.

Filed Date: 4/14/22.

Accession Number: 20220414-5157.

Comment Date: 5 p.m. ET 5/5/22.

Docket Numbers: ER22-1638-000.

Applicants: AEP Oklahoma Transmission Company, Inc.

Description: § 205(d) Rate Filing: Seven Cowboy Wind PDA Notice of Cancellation to be effective 10/15/2021.

Filed Date: 4/14/22.

Accession Number: 20220414-5165.

Comment Date: 5 p.m. ET 5/5/22.

Docket Numbers: ER22-1639-000.

Applicants: PJM Interconnection, L.L.C.

Description: Tariff Amendment: Notice of Cancellation of WMPA. SA No. 3595, Queue No. Y3-074 to be effective 6/15/2022.

Filed Date: 4/14/22.

Accession Number: 20220414-5168.

Comment Date: 5 p.m. ET 5/5/22.

Docket Numbers: ER22-1640-000.

Applicants: Midcontinent Independent System Operator, Inc.

Description: Compliance filing: 2022-04-14_Order 2222 Participation of DER Aggregations Compliance Filing to be effective 10/1/2029.

Filed Date: 4/14/22.

Accession Number: 20220414-5193.

Comment Date: 5 p.m. ET 6/6/22.

Take notice that the Commission received the following electric securities filings:

Docket Numbers: ES22-36-000.

Applicants: DTE Electric Company.

Description: Application Under Section 204 of the Federal Power Act for Authorization to Issue Securities of DTE Electric Company.

Filed Date: 4/13/22.

Accession Number: 20220413-5240.

Comment Date: 5 p.m. ET 5/4/22.

Docket Numbers: ES22-37-000.

Applicants: Trans Bay Cable LLC.

Description: Application Under Section 204 of the Federal Power Act for Authorization to Issue Securities of Trans Bay Cable LLC.

Filed Date: 4/13/22.

Accession Number: 20220413-5241.

Comment Date: 5 p.m. ET 5/4/22.

Take notice that the Commission received the following PURPA 210(m)(3) filings:

Docket Numbers: QM22-10-000.

Applicants: Wisconsin Electric Power Company.

Description: Application of Wisconsin Electric Power Company to Terminate Its Mandatory Purchase Obligation under the Public Utility Regulatory Policies Act of 1978.

Filed Date: 4/14/22.

Accession Number: 20220414-5212.

Comment Date: 5 p.m. ET 5/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: April 14, 2022.
Debbie-Anne A. Reese,
Deputy Secretary.

[FR Doc. 2022-08470 Filed 4-19-22; 8:45 am]

BILLING CODE 6717-01-P